RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collection of information to determine (1) the practical utility of the collection; (2) the accuracy of the estimated burden of the collection; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

Under Section 6 of the Railroad Retirement Act (RRA), lump-sum death benefits are payable to surviving widow(er)s, children, and certain other dependents. Lump-sum death benefits are payable after the death of a railroad employee only if there are no qualified survivors of the employee immediately eligible for annuities. With the exception of the residual death benefit, eligibility for survivor benefits depends on whether the deceased employee was “insured” under the RRA at the time of death. If the deceased employee was not insured, jurisdiction of any survivor benefits payable is transferred to the Social Security Administration and survivor benefits are paid by that agency instead of the RRB. The requirements for applying for benefits are prescribed in 20 CFR 217, 219, and 234.

The collection obtains the information required by the RRB to determine entitlement to and amount of the survivor death benefits applied for. To collect the information, the RRB uses Forms AA-11a, Designation for Change of Beneficiary for Residual Lump-Sum; AA-21, Application for Lump-Sum Death Payment and Annuities Unpaid at Death; AA-21cert, Application Summary and Certification; G-131, Authorization of Payment and Release of All Claims to a Death Benefit or Accrued Annuity Payment; and G-273a, Funeral Director's Statement of Burial Charges. One response is requested of each respondent. Completion is required to obtain benefits.

Previous Requests for Comments: The RRB has already published the initial 60-day notice (80 FR 44402 on July 27, 2015) required by 44 U.S.C. 3506(c)(2). That request elicited no comments.

Information Collection Request (ICR)

Title: Application for Survivor Death Benefits.

OMB Control Number: 3220-0031.

Form(s) submitted: AA-11a, AA-21cert, AA-21, G-131, G-273a.

Type of request: Revision of an approved collection.

Affected public: Individuals or Households.

Abstract: The collection obtains the information needed to pay death benefits and annuities due but unpaid at death under the Railroad Retirement Act. Benefits are paid to designated beneficiaries or to survivors in a priority designated law.

Changes proposed: The RRB proposes the following changes to the forms in the information collection:

• Form AA-11a—Remove from the information collection due to less than 10 responses a year.

• Form AA-21—Add clarifying language to better define who qualifies for a child's annuity and other minor editorial changes.

• Form G-131—For clarity, add an Instructions section and space for the RRB to enter the applicant's name and the waived share amount.

• Form G-273a—Add clarifying language to Item 2, regarding the total amount of charges the funeral home should enter; and what the funeral home should list as types of payments received or expected to be received to Item 3.

The burden estimate for the ICR is as follows:

Form No. | Annual responses | Time (minutes) | Burden (hours)
AA-21 (without assistance) | 200 | 40 | 133
AA-21cert (with assistance) | 3,500 | 20 | 1,167
G-131 | 100 | 5 | 8
G-273a | 4,000 | 10 | 667
Total | 7,800 |  | 1,975

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois 60611-2092 or Charles.Mierzwa@RRB.GOV and to the OMB Desk Officer for the RRB, Fax: 202-395-6974, Email address: OIRA_Submission@omb.eop.gov.

Charles Mierzwa,
Chief of Information Resources Management.

[FR Doc. 2015-24641 Filed 9-28-15; 8:45 am]

BILLING CODE 7905-01-P